DEPARTMENT OF COMMERCE

National Oceanic and Atmospheric Administration

[RTID 0648-XA870]

Fisheries of the Gulf of Mexico; Southeast Data, Assessment, and Review (SEDAR); Public Meeting; Cancellation

AGENCY: National Marine Fisheries Service (NMFS), National Oceanic and Atmospheric Administration (NOAA), Commerce.

ACTION: Notice of cancellation of SEDAR 72 Assessment Webinar I for Gulf of Mexico gag grouper.

SUMMARY: The SEDAR 72 stock assessment process for Gulf of Mexico gag grouper will consist of a series of data and assessment webinars. See SUPPLEMENTARY INFORMATION.

DATES: The SEDAR 72 Assessment Webinar I was scheduled for March 16, 2021, from 11 a.m. to 1 p.m., Eastern Time.

ADDRESSES:

Meeting address: The meeting was to be held via webinar.

SEDAR address: 4055 Faber Place Drive, Suite 201, North Charleston, SC 29405.

FOR FURTHER INFORMATION CONTACT: Julie A. Neer, SEDAR Coordinator; (843) 571-4366; email: Julie.neer@safmc.net

SUPPLEMENTARY INFORMATION: The meeting notice published on February 18, 2021 (86 FR 10039). This notice announces that the meeting is cancelled and will be rescheduled at a later date.

Authority: 16 U.S.C. 1801 et seq.

Dated: February 25, 2021.
Tracey L. Thompson,
Acting Deputy Director, Office of Sustainable Fisheries, National Marine Fisheries Service.

[FR Doc. 2021-04257 Filed 3-1-21; 8:45 am]

BILLING CODE 3510-22-P